ENVIRONMENTAL PROTECTION AGENCY

40 CFR Part 81

[EPA-R04-OAR-2018-0173; FRL- 9978-90—Region 4]

Air Plan Approval and Air Quality Designation; AL; Redesignation of the Etowah County Unclassifiable Area

AGENCY: Environmental Protection Agency (EPA).

ACTION: Proposed rule.

SUMMARY: On March 22, 2018, the State of Alabama, through the Alabama Department of Environmental Management (ADEM), submitted a request for the Environmental Protection Agency (EPA) to redesignate the Etowah County, Alabama fine particulate matter (PM2.5) unclassifiable area (hereinafter referred to as the “Etowah County Area” or “Area”) to attainment for the 2006 primary and secondary 24-hour PM2.5 national ambient air quality standards (NAAQS). EPA now has sufficient data to determine that the Etowah County Area is in attainment of the 2006 primary and secondary 24-hour PM2.5 NAAQS. Therefore, EPA is proposing to approve the State's request and redesignate the Area to unclassifiable/attainment for the 2006 primary and secondary 24-hour PM2.5 NAAQS based upon valid, quality-assured, and certified ambient air monitoring data showing that the PM2.5 monitor in the Area is in compliance with the 2006 primary and secondary 24-hour PM2.5 NAAQS.

DATES: Comments must be received on or before July 2, 2018.

ADDRESSES: Submit your comments, identified by Docket ID No. EPA-R04-OAR-2018-0173 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Madolyn Sanchez, Air Regulatory Management Section, Air Planning and Implementation Branch, Air, Pesticides and Toxics Management Division, U.S. Environmental Protection Agency, Region 4, 61 Forsyth Street SW, Atlanta, Georgia 30303-8960. Ms. Sanchez can be reached by telephone at (404) 562-9644 or via electronic mail at sanchez.madolyn@epa.gov.

SUPPLEMENTARY INFORMATION:

I. Background

The Clean Air Act (CAA or Act) establishes a process for air quality management through the establishment and implementation of the NAAQS. After the promulgation of a new or revised NAAQS, EPA is required to designate areas, pursuant to section 107(d)(1) of the CAA, as attainment, nonattainment, or unclassifiable. On September 21, 2006, EPA revised the primary and secondary 24-hour NAAQS for PM2.5 at a level of 35 micrograms per cubic meter (µg/m³), based on a 3-year average of the annual 98th percentile of 24-hour PM2.5 concentrations. See 71 FR 61144 (October 17, 2006). EPA established the standards based on significant evidence and numerous health studies demonstrating that serious health effects are associated with exposures to particulate matter.

The process for designating areas following promulgation of a new or revised NAAQS is contained in section 107(d)(1) of the CAA. On October 8, 2009, EPA designated areas across the country as nonattainment, unclassifiable, or unclassifiable/attainment ¹ for the 2006 24-hour PM2.5 NAAQS based upon air quality monitoring data from these monitors for calendar years 2006-2008. See 74 FR 58688. The monitor in the Etowah County Area had incomplete data for the 2006-2008 timeframe. Therefore, EPA designated Etowah County as unclassifiable for the 2006 24-hour PM2.5 NAAQS. Id.

¹ For the initial PM area designations in 2009 (for the 2006 24-hour PM2.5 NAAQS), EPA used a designation category of “unclassifiable/attainment” for areas that had monitors showing attainment of the standard and were not contributing to nearby violations and for areas that did not have monitors but for which EPA had reason to believe were likely attaining the standard and not contributing to nearby violations. EPA used the category “unclassifiable” for areas in which EPA could not determine, based upon available information, whether or not the NAAQS was being met and/or EPA had not determined the area to be contributing to nearby violations. EPA reserves the “attainment” category for when EPA redesignates a nonattainment area that has attained the relevant NAAQS and has an approved maintenance plan.

As discussed in section III, below, the monitor in the Etowah County Area now has sufficient data to determine that the Etowah County Area is in attainment of the 2006 primary and secondary 24-hour PM2.5 NAAQS. Therefore, on March 22, 2018, Alabama submitted a request for EPA to redesignate Area to attainment for these NAAQS.²

² Although Alabama requested redesignation of the Area to “attainment,” EPA is proposing to redesignate the area to “unclassifiable/attainment” because, as noted above, EPA reserves the “attainment” category for when EPA redesignates a nonattainment area that has attained the relevant NAAQS and has an approved maintenance plan.

II. What are the criteria for redesignating an area from unclassifiable to unclassifiable/attainment?

Section 107(d)(3) of the CAA provides the framework for changing the area designations for any NAAQS pollutants. Section 107(d)(3)(A) provides that the Administrator may notify the Governor of any state that the designation of an area should be revised “on the basis of air quality data, planning and control considerations, or any other air quality-related considerations the Administrator deems appropriate.” The Act further provides in section 107(d)(3)(D) that even if the Administrator has not notified a state Governor that a designation should be revised, the Governor of any state may, on the Governor's own motion, submit a request to revise the designation of any area, and the Administrator must approve or deny the request.

When approving or denying a request to redesignate an area, EPA bases its decision on the air quality data for the area as well as the considerations provided under section 107(d)(3)(A).³ In keeping with section 107(d)(1)(A), areas that are redesignated to unclassifiable/attainment must meet the requirements for attainment areas and thus must meet the relevant NAAQS. In addition, the area must not contribute to ambient air quality in a nearby area that does not meet the NAAQS. The relevant monitoring data must be collected and quality-assured in accordance with 40 CFR part 58 and recorded in the EPA Air Quality System (AQS) database. The designated monitors generally should have remained at the same location for the duration of the monitoring period upon which the redesignation request is based.⁴

³ While CAA section 107(d)(3)(E) also lists specific requirements for redesignations, those requirements only apply to redesignations of nonattainment areas to attainment and therefore are not applicable in the context of a redesignation of an area from unclassifiable to unclassifiable/attainment.

⁴ See Memorandum from John Calcagni, Director, EPA Air Quality Management Division, entitled “Procedures for Processing Requests to Redesignate Areas to Attainment” (September 4, 1992).

III. What is EPA's rationale for proposing to redesignate the Area?

In order to redesignate the Area from unclassifiable to unclassifiable/attainment for the 2006 primary and secondary 24-hour PM2.5 NAAQS, the 3-year average of annual 98th percentile 24-hour concentration values (i.e., design value) over the most recent 3-year period must be less than or equal to 35 µg/m³ at all monitoring sites in the Area over the full 3-year period, as determined in accordance with 40 CFR 50.18 and Appendix N of Part 50. EPA reviewed PM2.5 monitoring data from the monitoring station in the Etowah County Area for the 2006 primary and secondary 24-hour PM2.5 NAAQS for the 3-year period from 2014-2016. These data have been quality-assured, certified, and recorded in AQS by Alabama, and the monitoring location has not changed during the monitoring period. As summarized in Table 1, the design value for the monitor in the Area for the 2014-2016 period is well below the 2006 primary and secondary 24-hour PM2.5 NAAQS.

Table 1—2006 24-Hour PM2.5 Design Value for the Monitor in the Etowah County Area for 2014-2016
Local site name | Monitoring site | 2014-2016 design value (μg/m³)
Etowah County, AL | 01-055-0010 | 17

Because the 3-year design value, based on valid, quality-assured data, demonstrates that the Area meets the 2006 primary and secondary 24-hour PM2.5 standards, EPA is proposing to redesignate the Etowah County Area from unclassifiable to unclassifiable/attainment for this NAAQS.

IV. Proposed Action

EPA is proposing to approve Alabama's March 22, 2018, redesignation request and to redesignate the Etowah County Area from unclassifiable to unclassifiable/attainment for the 2006 primary and secondary 24-hour PM2.5 NAAQS. If finalized, approval of the redesignation request would change the legal designation, found at 40 CFR part 81, of Etowah County from unclassifiable to unclassifiable/attainment for the 2006 primary and secondary 24-hour PM2.5 NAAQS.

V. Statutory and Executive Order Reviews

Under the CAA, redesignation of an area to unclassifiable/attainment is an action that affects the status of a geographical area and does not impose any additional regulatory requirements on sources beyond those imposed by state law. A redesignation to unclassifiable/attainment does not create any new requirements. Accordingly, this proposed action merely proposes to redesignate an area to unclassifiable/attainment and does not impose additional requirements. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because redesignations are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Will not have disproportionate human health or environmental effects under Executive Order 12898 (59 FR 7629, February 16, 1994).

This action is not approved to apply on any Indian reservation land or in any other area where EPA or an Indian tribe has demonstrated that a tribe has jurisdiction. In those areas of Indian County, the action does not have tribal implications as specified by Executive Order 13175 (65 FR 67249, November 9, 2000), nor will it impose substantial direct costs on tribal governments or preempt tribal law.

40 CFR Part 81

Environmental protection, Air pollution control.

Authority: 42 U.S.C. 7401 et seq.

Dated: May 18, 2018.
Onis “Trey” Glenn, III,
Regional Administrator, Region 4.

[FR Doc. 2018-11835 Filed 5-31-18; 8:45 am]

BILLING CODE 6560-50-P